ENVIRONMENTAL PROTECTION AGENCY

[ER-FRL-8993-7]

Environmental Impacts Statements; Notice Of Availability

Responsible Agency: Office of Federal Activities, General Information (202) 564-1399 or http://www.epa.gov/compliance/nepa/.

Weekly receipt of Environmental Impact Statements Filed 11/08/2010 Through 11/12/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the website satisfies the Section 309(a) requirement to make EPA's comments on EISs available to the public. Accordingly, on March 31, 2010, EPA discontinued the publication of the notice of availability of EPA comments in the Federal Register.

EIS No. 20100444, Final EIS, BLM, NV, Tonopah Solar Energy Crescent Dunes Solar Energy Project, a 7,680-Acre Right-of-Way (ROW) on Public Lands to Construct a Concentrated Solar Thermal Power Plant Facility, Nye County, NV, Wait Period Ends: 12/20/2010, Contact: Timothy Coward 775-482-7800

EIS No. 20100445, Final EIS, NPS, NC, Cape Hatteras National Seashore Off-Road Vehicle Management Plan, Implementation, NC, Wait Period Ends: 12/20/2010, Contact: Mike Murray 252-473-2111 Ext 148.

EIS No. 20100446, Draft EIS, FHWA, CA, Ferguson Slide Permanent Restoration Project, Proposes to Restore Full Highway Access along State Route 140 from 8 miles east of Briceburg to 7.6 miles west of El Portal in Mariposa County, CA, Comment Period Ends: 01/13/2011, Contact: Kristen Helton 559-243-8224.

EIS No. 20100447, Final EIS, FTA, AK, Hatcher Pass Recreation Area Access Trails, and Transit Facilities, To Develop Transportation Access and Transit-Related Infrastructure, Northern and Southern Areas, Hatcher Pass, AK, Wait Period Ends: 12/20/2010, Contact: Dan Drais 206-220-7954.

EIS No. 20100448, Final EIS, USACE, NM, U.S. Steel Keetac Taconite Mine Expansion Project, Propose to Restart an Idled Production Line and Expand Contiguous Sections of the Open Pit Iron Ore Mine, located near Keewatin, Itasca and St. Louis Counties, MN, Wait Period Ends: 12/20/2010, Contact: Ralph Augustin 651-290-5378.

Amended Notices

EIS No. 20100386, Draft EIS, BLM, UT, Uinta Basin Natural Gas Development Project, To Develop Oil and Natural Gas Resources within the Monument Butte-Red Wash and West Tavaputs Exploration and Developments Area, Applications for Permit of Drill and Right-of-Way Grants, Uintah and Duchesne Counties, UT, Comment Period Ends: 12/30/2010, Contact: Mark Wimmer 435-781-4464.

Revision to FR Notice Published 10/01/2010: Extending Comment Period from 11/15/2010 to 12/30/2010.

EIS No. 20100431, Final EIS, USFS, WA, Dosewallips Road Washout Project, To Reestablish Road Access to both Forest Service Road (FSR) 2610 and Dosewallips Road, Hood Canal Ranger District Olympic National Forest, Olympic National Park, Jefferson County, WA, Wait Period Ends: 12/06/2010, Contact: Tim Davis 360-956-2375.

Revision to FR Notice Published 11/05/2010: Correction to Contract Phone Number.

EIS No. 20100438, Draft EIS, USA, CO, PROGRAMMATIC—Growth, Realignment, and Stationing of Army Aviation Assets, Evaluates Environmental Impacts of Stationing Army Combat Aviation Brigade at Fort Carson, CO and Joint Base Lewis-McChord, WA, Comment Period Ends: 12/20/2010, Contact: Mike Ackerman 210-295-2273.

Revision to FR Notice Published 11/05/2010; Correction to Lead Agency from COE to USA and Correction to the Title.

Dated: November 16, 2010.
Robert W. Hargrove,
Director, NEPA Compliance Division, Office of Federal Activities.

[FR Doc. 2010-29227 Filed 11-18-10; 8:45 am]

BILLING CODE 6560-50-P